DEPARTMENT OF ENERGY

Federal Energy Regulatory Commission

[Docket No. ER01-3031-000]

PacifiCorp; Notice of Filing

September 13, 2001.

Take notice that on August 31, 2001, PacifiCorp, tendered for filing with the Federal Energy Commission (Commission), in accordance with 18 CFR 35 of the Commission's Rules and Regulations, an Amended and Restated Transmission Service and Operating Agreement with Deseret Generation and Transmission Cooperative (Deseret).

Copies of this filing were supplied to the Washington Utilities and Transportation Commission and the Public Utility Commission of Oregon.

Any person desiring to be heard or to protest such filing should file a motion to intervene or protest with the Federal Energy Regulatory Commission, 888 First Street, NE., Washington, DC 20426, in accordance with Rules 211 and 214 of the Commission's Rules of Practice and Procedure (18 CFR 385.211 and 385.214). All such motions and protests should be filed on or before September 24, 2001. Protests will be considered by the Commission to determine the appropriate action to be taken, but will not serve to make protestants parties to the proceedings. Any person wishing to become a party must file a motion to intervene. Copies of this filing are on file with the Commission and are available for public inspection. This filing may also be viewed on the Commission's web site at http://www.ferc.gov using the “RIMS” link, select “Docket#” and follow the instructions (call 202-208-2222 for assistance). Comments, protests and interventions may be filed electronically via the internet in lieu of paper. See, 18 CFR 385.2001(a)(1)(iii) and the instructions on the Commission's web site under the “e-Filing” link.

Linwood A. Watson, Jr.,
Acting Secretary.

[FR Doc. 01-23382 Filed 9-19-01; 8:45 am]

BILLING CODE 6717-01-P